DEPARTMENT OF ENERGY

Federal Energy Regulatory Commission

Combined Notice of Filings #1

Take notice that the Commission received the following electric corporate filings:

Docket Numbers: EC24-79-000.

Applicants: Dickerson Power, LLC, Lanyard Power Marketing, LLC, Chalk Point Power, LLC.

Description: Joint Application for Authorization Under Section 203 of the Federal Power Act of Chalk Point Power, LLC, et. al.

Filed Date: 5/20/24.

Accession Number: 20240520-5228.

Comment Date: 5 p.m. ET 6/10/24.

Take notice that the Commission received the following exempt wholesale generator filings:

Docket Numbers: EG24-184-000.

Applicants: Imperial Power Plant, LLC.

Description: Imperial Power Plant, LLC submits Notice of Self-Certification of Exempt Wholesale Generator Status.

Filed Date: 5/21/24.

Accession Number: 20240521-5146.

Comment Date: 5 p.m. ET 6/11/24.

Docket Numbers: EG24-185-000.

Applicants: Pecos Power Plant, LLC.

Description: Pecos Power Plant, LLC submits Notice of Self-Certification of Exempt Wholesale Generator Status.

Filed Date: 5/21/24.

Accession Number: 20240521-5147.

Comment Date: 5 p.m. ET 6/11/24.

Take notice that the Commission received the following electric rate filings:

Docket Numbers: ER20-2452-006; ER20-2453-007; ER20-844-004.

Applicants: Hamilton Projects Acquiror, LLC, Hamilton Patriot LLC, Hamilton Liberty LLC.

Description: Amendment to 10/23/2023, Notice of Change in Status of Hamilton Liberty LLC, et al.

Filed Date: 5/20/24.

Accession Number: 20240520-5204.

Comment Date: 5 p.m. ET 6/10/24.

Docket Numbers: ER21-2368-002.

Applicants: Chalk Point Power, LLC.

Description: Compliance filing: Chalk Point PJM Schedule 2 Filing to be effective N/A.

Filed Date: 5/21/24.

Accession Number: 20240521-5160.

Comment Date: 5 p.m. ET 6/11/24.

Docket Numbers: ER22-2569-002.

Applicants: Dickerson Power, LLC.

Description: Compliance filing: Dickerson PJM Schedule 2 Filing to be effective N/A.

Filed Date: 5/21/24.

Accession Number: 20240521-5163.

Comment Date: 5 p.m. ET 6/11/24.

Docket Numbers: ER24-1125-001.

Applicants: Wildflower Solar, LLC.

Description: Compliance filing: Wildflower Solar LLC submits tariff filing per 35: Supplement to Revised Market-Based Rate Tariff to be effective 2/1/2024.

Filed Date: 5/21/24.

Accession Number: 20240521-5155.

Comment Date: 5 p.m. ET 6/11/24.

Docket Numbers: ER24-1679-000.

Applicants: Eden Solar LLC.

Description: Supplement to April 1, 2024 Eden Solar, LLC tariff filing.

Filed Date: 5/17/24.

Accession Number: 20240517-5156.

Comment Date: 5 p.m. ET 5/30/24.

Docket Numbers: ER24-2066-000.

Applicants: PJM Interconnection, L.L.C.

Description: § 205(d) Rate Filing: Notice of Cancellation of WMPA SA No. 5730, Queue No. AF2-428 to be effective 7/20/2024.

Filed Date: 5/20/24.

Accession Number: 20240520-5207.

Comment Date: 5 p.m. ET 6/10/24.

Docket Numbers: ER24-2067-000.

Applicants: Middletown Coke Company, LLC.

Description: Compliance filing: Middletown Coke Reactive Power Tariff Filing (5.21.24) to be effective 6/1/2024.

Filed Date: 5/21/24.

Accession Number: 20240521-5096.

Comment Date: 5 p.m. ET 6/11/24.

Docket Numbers: ER24-2068-000.

Applicants: Basin Electric Power Cooperative.

Description: § 205(d) Rate Filing: Submission of Amended Service Agreement No. 100 to be effective 4/19/2023.

Filed Date: 5/21/24.

Accession Number: 20240521-5129.

Comment Date: 5 p.m. ET 6/11/24.

Docket Numbers: ER24-2069-000.

Applicants: PJM Interconnection, L.L.C.

Description: § 205(d) Rate Filing: Amendment to WMPA, SA No. 6310; Queue No. AG1-086 to be effective 7/21/2024.

Filed Date: 5/21/24.

Accession Number: 20240521-5143.

Comment Date: 5 p.m. ET 6/11/24.

Docket Numbers: ER24-2070-000.

Applicants: PJM Interconnection, L.L.C.

Description: § 205(d) Rate Filing: Revisions to OA, Sch 12 re: Termination of Mega Energy & Western Reserve to be effective 7/21/2024.

Filed Date: 5/21/24.

Accession Number: 20240521-5159.

Comment Date: 5 p.m. ET 6/11/24.

Take notice that the Commission received the following electric securities filings:

Docket Numbers: ES24-39-000.

Applicants: Indianapolis Power & Light Co.

Description: Application Under Section 204 of the Federal Power Act for Authorization to Issue Securities of Indianapolis Power & Light Company.

Filed Date: 5/20/24.

Accession Number: 20240520-5227.

Comment Date: 5 p.m. ET 6/10/24.

Take notice that the Commission received the following electric reliability filings:

Docket Numbers: RD24-7-000.

Applicants: North American Electric Reliability Corporation, Western Electricity Coordinating Council.

Description: North American Electric Reliability Corporation submits Joint Petition for Approval of Proposed Regional Reliability Standard FAC-501-WECC-4.

Filed Date: 5/17/24.

Accession Number: 20240517-5195.

Comment Date: 5 p.m. ET 6/20/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 21, 2024.
Debbie-Anne A. Reese,
Acting Secretary.

[FR Doc. 2024-11675 Filed 5-28-24; 8:45 am]

BILLING CODE 6717-01-P